DEPARTMENT OF THE INTERIOR

National Park Service

Natural Landmarks Committee of the National Park Advisory Board; Meeting

AGENCY: National Park Service, Department of the Interior.

ACTION: Notice of meeting.

SUMMARY: Notice is hereby given in accordance with the Federal Advisory Commission Act that a meeting of the National Landmarks Committee of the National Park System Advisory Board will be held at 9:00 a.m. on the following dates and at the following location.

DATES: May 8 and May 9, 2001.

Location: Ann Pamela Cunningham Building, Mount Vernon, Mount Vernon, Virginia 22121.

FOR FURTHER INFORMATION CONTACT: Patricia Henry, National Historic Landmarks Survey, National Register, History, and Education (2280); National Park Service, 1849 C Street, NW., Room NC-400; Washington, DC 20240. Telephone (202) 343-8163.

SUPPLEMENTARY INFORMATION: The purpose of the meeting of the National Landmarks Committee of the National Park System Advisory Board is to evaluate nominations of historic properties in order to advise the full National Park System Advisory Board (meeting on May 21-23, 2001) of the qualifications of properties being proposed for National Historic Landmark (NHL) designation, and to recommend to the National Park System Advisory Board those properties that the Landmarks Committee finds meet the criteria for designation as National Historic Landmarks. The members of the National Landmarks Committee are:

Mr. Parker Westbrook, CHAIR

Dr. Allyson Brooks

Dr. Ian W. Brown

Mr. S. Allen Chambers, Jr.

Dr. Elizabeth Clark-Lewis

Mr. Jerry L. Rogers

Dr. Richard Guy Wilson

Ms. Marie Ridder

The meeting will include presentations and discussions on the national historic significance and the historic integrity of a number of properties being nominated for National Historic Landmark designation. The meeting will be open to the public. However, facilities and space for accommodating members of the public are limited. Any member of the public may file for consideration by the committee written comments concerning nominations and matters to be discussed pursuant to 36 CFR part 65.

Comments should be submitted to Carol D. Shull, Chief, National Historic Landmarks Survey and Keeper of the National Register of Historic Places; National Register, History, and Education (2280); National Park Service; 1849 C Street, NW., Room NC-400; Washington, DC 20240.

The committee will consider the following nominations:

Alaska

Sheldon Jackson School

California

Fresno Sanitary Landfill

Hume Lake Dam

Connecticut

Samuel Wadsworth Russell House

District of Columbia

John Philip Souza School

Illinois

S.R. Crown Building

Nicholas Jarrot Mansion

Maryland

J.C. Lore Oyster House

Massachusetts

Gibson House

Montana

Fort Peck Dam

New York

Dutch Reformed Church

Priscilla

Modesty

Rudolph Oyster House

North Carolina

Bethania Historic District

Pennsylvania

Merchant's Exchange Building

Texas

Randolph Field Historic District

Virginia

New Kent County Schools

Washington

Grand Coulee Dam

Wyoming

Tygart River Reservoir Dam

The Committee will also consider the following boundary adjustments, added documentation and withdrawals of designation:

California

Coso Rock Art District (Boundary and Name Change)

Mendocino Woodlands National Recreational Demonstration Area (Boundary Increase)

Missouri

USS Inaugural (Withdrawal of Designation)

Ohio

Hotel Breakers (Withdrawal of Designation)

Texas

USS Cabot (Withdrawal of Designation)

Dated: March 1, 2001.
Carol D. Shull,
Chief, National Historic Landmarks Survey and Keeper of the National Register of Historic Places; National Park Service, Washington, DC.

[FR Doc. 01-5935 Filed 3-8-01; 8:45 am]

BILLING CODE 4310-70-M